DEPARTMENT OF STATE

[Public Notice 6189]

Bureau of Political-Military Affairs: Directorate of Defense Trade Controls; Notifications to the Congress of Proposed Commercial Export Licenses

SUMMARY: Notice is hereby given that the Department of State has forwarded the attached Notifications of Proposed Export Licenses to the Congress on the dates indicated pursuant to sections 36(c) and 36(d) and in compliance with section 36(f) of the Arms Export Control Act (22 U.S.C. 2776).

DATES: Effective Date: As shown on each of the 53 letters.

FOR FURTHER INFORMATION CONTACT: Mr. Kevin Maloney, Director, Office of Defense Trade Controls Licensing, Directorate of Defense Trade Controls, Bureau of Political-Military Affairs, Department of State (202) 663-2023.

SUPPLEMENTARY INFORMATION: Section 36(f) of the Arms Export Control Act mandates that notifications to the Congress pursuant to sections 36(c) and 36(d) must be published in the Federal Register when they are transmitted to Congress or as soon thereafter as practicable.

November 13, 2007.

Hon. Nancy Pelosi, Speaker of the House of Representatives.

Dear Madam Speaker: Pursuant to Section 36(c) of the Arms Export Control Act, I am transmitting, herewith, certification of a proposed license for the export of defense articles in the amount of $100,000,000 or more.

The transaction contained in the attached certification involves the temporary export of two (2) commercial communications satellites to international waters for launch under the Sea Launch program or to Russia and Kazakhstan for launch. This notification is for the export of the satellites only. Transfer of ownership to a U.S. company will be made once the satellites are in orbit.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 022-07.

November 13, 2007.

Hon. Nancy Pelosi, Speaker of the House of Representatives.

Dear Madam Speaker: Pursuant to Section 36(c) of the Arms Export Control Act, I am transmitting, herewith, certification of a proposed license for the export of defense articles in the amount of $50,000,000 or more.

The transaction contained in the attached certification involves the temporary export of a commercial communications satellite to international waters for launch. This notification is for the export of the satellite only. Transfer of ownership to a U.S. company will be made once the satellite is in orbit.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 076-07.

November 13, 2007.

Hon. Nancy Pelosi, Speaker of the House of Representatives.

Dear Madam Speaker: Pursuant to Section 36(c) of the Arms Export Control Act, I am transmitting, herewith, certification of a proposed license for the export of defense articles in the amount of $50,000,000 or more.

The transaction contained in the attached certification involves the temporary export of a commercial communications satellite to international waters for launch under the Sea Launch program. This notification is for the export of the satellite and associated launch support equipment only. Transfer of ownership to a U.S. company will be made once the satellite is in orbit.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 082-07.

November 15, 2007.

Hon. Nancy Pelosi, Speaker of the House of Representatives.

Dear Madam Speaker: Pursuant to Section 36(d) of the Arms Export Control Act, I am transmitting, herewith, certification of a proposed manufacturing license agreement for the manufacture of significant military equipment abroad in the amount of $3,695,000.

The transaction contained in the attached certification involves the export of technical data, assistance and manufacturing know-how to France for the initial development and subsequent manufacture of Complimentary Metal Oxide Semiconductor (CMOS) Application Specific Integrated Circuits (ASIC). After manufacture, the integrated circuits, in wafer form, will be returned to the United States.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 064-07.

November 16, 2007.

Hon. Nancy Pelosi, Speaker of the House of Representatives.

Dear Madam Speaker: Pursuant to Section 36(c) and 36(d) of the Arms Export Control Act, I am transmitting, herewith, certification of a proposed technical assistance agreement for the export of technical data, defense services, and defense articles in the amount of $50,000,000 or more.

The transaction contained in the attached certification involves the export of defense data, services and articles necessary for Cyclone Aviation Products Ltd. of Israel to manufacture certain Alternate Mission Equipment (AME) for sale to Lockheed Martin, the Government of the United States, and the Governments of Israel, Bahrain, Belgium, Chile, Denmark, Egypt, Greece, Italy, Jordan, the Netherlands, Norway, Oman, Poland, Portugal, the Republic of Korea, Singapore, Taiwan, Thailand, Turkey and the United Arab Emirates for use on the F-16 aircraft.

The United States Government is prepared to license the export of these items having taken into account political, military, economic, human rights and arms control considerations.

More detailed information is contained in the formal certification, which, though unclassified, contains business information submitted to the Department of State by the applicant, publication of which could cause competitive harm to the United States firm concerned.

Sincerely,

Jeffrey T. Bergner,

Assistant Secretary Legislative Affairs.

Enclosure: Transmittal No. DDTC 010-07.

November 19, 2007.

Hon. Nancy Pelosi, Speaker of the House of Representatives.

Dear Madam Speaker: Pursuant to Section 36(c) of the Arms Export Control Act, I am transmitting, herewith, certification of a proposed agreement for the export of defense articles or defense services sold commercially under contract in the amount of $100,000,000 or more.

The transaction contained in the attached certification involves the export of defense articles, including technical data, and defense services to the United Kingdom to support the maintenance, repair and modification services for the C-130J and C-130K Aircraft and associated equipment, and the participation of military exchange personnel from the government of Canada.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 062-07.

November 30, 2007.

Hon. Nancy Pelosi, Speaker of the House of Representatives.

Dear Madam Speaker: Pursuant to Sections 36(c) and 36(d) of the Arms Export Control Act, I am transmitting, herewith, certification of a proposed amendment to a manufacturing license agreement for the manufacture of significant military equipment abroad and the export of defense articles or defense services abroad in the amount of $50,000,000 or more.

The transaction described in the attached certification involves the transfer of defense articles, technical data, and defense services to Russia for the RD-180 Liquid Propellant Rocket Engine Program.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 065-07.

December 6, 2007.

Hon. Nancy Pelosi, Speaker of the House of Representatives.

Dear Madam Speaker: Pursuant to Section 36(c) of the Arms Export Control Act, I am transmitting, herewith, certification of a proposed agreement for the export of defense articles or defense services sold commercially under contract in the amount of $50,000,000 or more.

The transaction described in the attached certification involves the transfer of defense articles, including technical data, and defense services to Taiwan, Singapore, Canada, and the United Kingdom for the installation, operation, training, and maintenance of two multi-source remote sensing satellite ground stations for use by the Ministry of National Defense, Republic of China (Taiwan).

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 094-07.

December 7, 2007.

Hon. Nancy Pelosi, Speaker of the House of Representatives.

Dear Madam Speaker: Pursuant to Section 36(c) of the Arms Export Control Act, I am transmitting, herewith, certification of a proposed agreement for the export of defense articles or defense services in the amount of $50,000,000 or more.

The transaction contained in the attached certification involves the export of defense articles, including technical data, and defense services to the Kingdom of Saudi Arabia to support the sale of 16 S-92A helicopters.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 091-07.

December 7, 2007.

Hon. Nancy Pelosi, Speaker of the House of Representatives.

Dear Madam Speaker: Pursuant to Section 36(c) of the Arms Export Control Act, I am transmitting, herewith, certification of a proposed license for the export of defense articles or defense services in the amount of $100,000,000 or more.

The transaction contained in the attached certification involves the export of defense articles, including technical data, and defense services to Canada related to the acquisition of SNIPER Targeting Pods.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 102-07.

December 7, 2007.

Hon. Nancy Pelosi, Speaker of the House of Representatives.

Dear Madam Speaker: Pursuant to Section 36(c) of the Arms Export Control Act, I am transmitting, herewith, certification of a proposed agreement for the export of major defense equipment in the amount of $25,000,000 or more.

The transaction contained in the attached certification involves the export of defense articles, including technical data, and defense services to the United Kingdom in support of the sale of one C-17 Globemaster III aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 123-07.

December 18, 2007.

Hon. Nancy Pelosi, Speaker of the House of Representatives.

Dear Madam Speaker: Pursuant to Section 36(c) of the Arms Export Control Act, I am transmitting, herewith, certification of a proposed technical assistance agreement for the export of technical data, defense services, and defense articles in the amount of $100,000,000 or more.

The transaction contained in the attached certification involves the export of defense data and services to Italy for the manufacture of upper wing skins for the F-35 Joint Strike Fighter.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 033-07.

December 18, 2007.

Hon. Nancy Pelosi, Speaker of the House of Representatives.

Dear Madam Speaker: Pursuant to Section 36(d) of the Arms Export Control Act, I am transmitting, herewith, certification of a proposed manufacturing license agreement for the manufacture of significant military equipment abroad.

The transaction described in the attached certification involves the transfer of technical data, assistance and manufacturing know-how to Israel for the manufacture of the Advanced Digital Dispensing System (ADDS) II Countermeasure Dispenser System for sale and integration on various military aircraft in Israel, Germany, Singapore and Thailand.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 045-07.

December 18, 2007.

Hon. Nancy Pelosi, Speaker of the House of Representatives.

Dear Madam Speaker: Pursuant to Section 36(d) of the Arms Export Control Act, I am transmitting, herewith, certification of a proposed license for the manufacture of significant military equipment abroad.

The transaction contained in the attached certification involves the export of defense articles, including technical data, and defense services to the Philippines and South Korea necessary for the assembly of Complimentary Metal Oxide Semiconductor (CMOS) Application Specific Integrated Circuits (ASIC).

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 063-07.

December 18, 2007.

Hon. Nancy Pelosi, Speaker of the House of Representatives.

Dear Madam Speaker: Pursuant to Section 36(c) of the Arms Export Control Act, I am transmitting, herewith, certification of a proposed agreement for the export of defense articles or defense services sold commercially under contract in the amount of $50,000,000 or more.

The transaction described in the attached certification involves the transfer of defense articles, including technical data, and defense services to France, Germany, Gibraltar, Luxembourg, the Netherlands, Spain, Sweden, and the United Kingdom for the design, manufacture, and delivery of the New Skies Satellite (NSS)-12 Satellites Program.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 085-07.

December 18, 2007.

Hon. Nancy Pelosi, Speaker of the House of Representatives.

Dear Madam Speaker: Pursuant to Section 36(c) of the Arms Export Control Act, I am transmitting, herewith, re-certification of a proposed Agreement for the export of defense services and defense articles in the amount of $100,000,000 or more.

The transaction contained in the attached certification involves the export of defense articles, including technical data, and defense services in support of the manufacture of components for the AN/APG-66J Fire Control Radar System for end-use by the Japan Air Self Defense Force (JASDF).

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 089-07.

December 18, 2007.

Hon. Nancy Pelosi, Speaker of the House of Representatives.

Dear Madam Speaker: Pursuant to Section 36(c) of the Arms Export Control Act, I am transmitting, herewith, certification of a proposed technical assistance agreement for the export of technical data, defense services, and defense articles in the amount of $50,000,000 or more.

The transaction contained in the attached certification involves the export of defense articles, including technical data, and defense services in support of the Sistema de Vigilancia de Amazonia (SIVAM) Wide Area Surveillance System for end use by the Government of Brazil.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 090-07.

December 18, 2007.

Hon. Nancy Pelosi, Speaker of the House of Representatives.

Dear Madam Speaker: Pursuant to Sections 36(c) and 36(d) of the Arms Export Control Act, I am transmitting, herewith, certification of a proposed manufacturing license agreement for the manufacture of significant military equipment abroad and the export of defense services and defense articles in the amount of $50,000,000 or more.

The transaction contained in the attached certification involves the export of defense articles, including technical data, and defense services to South Korea to support the developmental manufacture of the T-701K helicopter engine in support of the Korean Helicopter Program.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 092-07.

December 18, 2007.

Hon. Nancy Pelosi, Speaker of the House of Representatives.

Dear Madam Speaker: Pursuant to Section 36(c) of the Arms Export Control Act, I am transmitting, herewith, certification of a proposed agreement for the export of defense articles or defense services in the amount of $50,000,000 or more.

The transaction contained in the attached certification involves the export of defense articles, including technical data, and defense services to Israel to support the manufacture of F/A-18 Leading Edge Extensions (LEX) and Aft Nose Landing Gear Doors.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 101-07.

December 18, 2007.

Hon. Nancy Pelosi, Speaker of the House of Representatives.

Dear Madam Speaker: Pursuant to Section 36(c) of the Arms Export Control Act, I am transmitting, herewith, certification of a proposed technical assistance agreement for the export of technical data, defense services, and defense articles in the amount of $50,000,000 or more.

The transaction contained in the attached certification involves the export of defense articles, including technical data, and defense services in support of the Communication and Information System (CIS) Wideband Programmable Network Radio for end use by the Slovak Republic Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 106-07.

December 18, 2007.

Hon. Nancy Pelosi, Speaker of the House of Representatives.

Dear Madam Speaker: Pursuant to Section 36(c) of the Arms Export Control Act, I am transmitting, herewith, certification of a proposed agreement for the export of defense articles or defense services in the amount of $100,000,000 or more.

The transaction contained in the attached certification involves the export of defense articles, including technical data, and defense services to Canada to support the manufacture of Decoder Assemblies for the Smiths Stores Management System Upgrade (SMUG) Program for the F/A-18 Aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 113-07.

December 19, 2007.

Hon. Nancy Pelosi, Speaker of the House of Representatives.

Dear Madam Speaker: Pursuant to Section 36(c) of the Arms Export Control Act, I am transmitting, herewith, certification of a proposed agreement for the export of defense articles or defense services sold commercially under contract in the amount of $50,000,000 or more.

The transaction described in the attached certification involves the transfer of defense articles, including technical data, and defense services to Australia, Canada, France, Italy, and Singapore for the design of the Optus D3 Commercial Communications Satellite Program for Australia.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 074-07.

December 19, 2007.

Hon. Nancy Pelosi, Speaker of the House of Representatives.

Dear Madam Speaker: Pursuant to Section 36(c) of the Arms Export Control Act, I am transmitting, herewith, certification of proposed licenses for the export of defense articles in the amount of $100,000,000 or more.

The transaction contained in the attached certification involves the temporary export and two commercial communications satellites to French Guiana and ownership transfer of one of the satellites upon launch to Canada.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 078-07.

December 19, 2007.

Hon. Nancy Pelosi, Speaker of the House of Representatives.

Dear Madam Speaker: Pursuant to Section 36(c) of the Arms Export Control Act, I am transmitting, herewith, certification of a proposed agreement for the export of defense articles or defense services sold commercially under contract in the amount of $100,000,000 or more.

The transaction described in the attached certification involves the transfer of defense articles, including technical data, and defense services to the United Arab Emirates, Italy, and France for the installation, integration engineering, design, testing, operation, training, and follow-on support of the Rolling Air Frame Missile Guided Missile Launch System on United Arab Emirates Navy ships.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 084-07.

December 19, 2007.

Hon. Nancy Pelosi, Speaker of the House of Representatives.

Dear Madam Speaker: Pursuant to Section 36(c) of the Arms Export Control Act, I am transmitting, herewith, certification of a proposed agreement for the export of defense articles or defense services in the amount of $50,000,000 or more.

The transaction contained in the attached certification involves the export of defense articles, including technical data, and defense services to Mexico to support the manufacture of minor aircraft parts for various military aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 103-07.

December 19, 2007.

Hon. Nancy Pelosi, Speaker of the House of Representatives.

Dear Madam Speaker: Pursuant to Section 36(c) of the Arms Export Control Act, I am transmitting, herewith, certification of a proposed agreement for the export of defense articles or defense services in the amount of $50,000,000 or more.

The transaction contained in the attached certification involves the export of defense articles, including technical data, and defense services to Israel to provide continued support for the upgrade of the USAF's T-38 training aircraft's avionics.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 109-07.

December 19, 2007.

Hon. Nancy Pelosi, Speaker of the House of Representatives.

Dear Madam Speaker: Pursuant to Section 36(c) of the Arms Export Control Act, I am transmitting, herewith, certification of a proposed technical assistance agreement for the export of technical data, defense services, and defense articles in the amount of $50,000,000 or more.

The transaction contained in the attached certification involves the export of technical data, defense services and articles in support of the Network Server System for the A400M Aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 112-07.

December 19, 2007.

Hon. Nancy Pelosi, Speaker of the House of Representatives.

Dear Madam Speaker: Pursuant to Section 36(c) of the Arms Export Control Act, I am transmitting, herewith, certification of a proposed agreement for the export of defense articles or defense services in the amount of $100,000,000 or more.

The transaction contained in the attached certification involves the export of defense articles, including technical data, and defense services to Japan to manufacture Mission Data Recorders, Remote Memory Modules, subassemblies, and mock-ups to support F-15 aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 117-07.

December 20, 2007.

Hon. Nancy Pelosi, Speaker of the House of Representatives.

Dear Madam Speaker: Pursuant to Section 36(c) of the Arms Export Control Act, I am transmitting, herewith, certification of a proposed technical assistance agreement for the export of technical data, defense services, and defense articles in the amount of $50,000,000 or more.

The transaction contained in the attached certification involves the export of technical data, defense services and defense articles to South Korea to support the manufacture of HMPT500 Series Transmissions for use on Flying Horse, Flying Tiger and Next Infantry Fighting Vehicles.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 066-07.

December 20, 2007.

Hon. Nancy Pelosi, Speaker of the House of Representatives.

Dear Madam Speaker: Pursuant to Section 36(c) of the Arms Export Control Act, I am transmitting, herewith, certification of a proposed license for the manufacture of significant military equipment abroad and the export of defense articles or defense services in the amount of $50,000,000 or more.

The transaction contained in the attached certification involves the export of defense articles, including technical data, and defense services to Sweden and Italy related to the application of brushless motors and cable systems for various applications in the SEP Modular Armoured Tactical System Program.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 079-07.

December 20, 2007.

Hon. Nancy Pelosi, Speaker of the House of Representatives.

Dear Madam Speaker: Pursuant to Section 36(c) and 36(d) of the Arms Export Control Act, I am transmitting, herewith, certification of a proposed agreement for the export of defense articles or defense services sold commercially under contract in the amount of $100,000,000 or more.

The transaction described in the attached certification involves the transfer of defense articles, including technical data, and defense services to Germany for the production and support of various versions of the Paveway weapons system for end use by the German Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 099-07.

December 20, 2007.

Hon. Nancy Pelosi, Speaker of the House of Representatives.

Dear Madam Speaker: Pursuant to Section 36(c) of the Arms Export Control Act, I am transmitting, herewith, certification of a proposed agreement for the export of defense articles or defense services in the amount of $50,000,000 or more.

The transaction contained in the attached certification involves the export of Up-Armored High Mobility Multipurpose Wheeled Vehicles and spare parts to Iraq to provide support to the Iraqi Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 118-07.

December 21, 2007.

Hon. Nancy Pelosi, Speaker of the House of Representatives.

Dear Madam Speaker: Pursuant to Sections 36(c) and 36(d) of the Arms Export Control Act, I am transmitting, herewith, certification of a proposed manufacturing license agreement for the export of defense articles or defense services sold commercially under contract in the amount of $50,000,000 or more and for the manufacture of significant military equipment.

The transaction described in the attached certification involves the transfer of hardware, technical data, assistance and manufacturing know-how to Greece and Israel for the manufacture of High Mobility Multipurpose Wheeled Vehicles (HMMWVs). All manufactured vehicles will be for end-use by the countries of Albania, Bosnia and Herzegovina, Bulgaria, Croatia, Macedonia, Romania, Slovenia and Greece.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 009-07.

January 23, 2008.

Hon. Nancy Pelosi, Speaker of the House of Representatives.

Dear Madam Speaker: Pursuant to Section 36(d) of the Arms Export Control Act, I am transmitting, herewith, certification of a proposed manufacturing license agreement for the manufacture of significant military equipment abroad.

The transaction contained in the attached certification involves the export of defense articles, including technical data, and defense services to Colombia to support the manufacture of the SP2022 SigPro semi-automatic pistol for end use by the Colombian government.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 093-07.

February 14, 2008.

Hon. Nancy Pelosi, Speaker of the House of Representatives.

Dear Madam Speaker: Pursuant to Section 36(c) of the Arms Export Control Act, I am transmitting, herewith, certification of a proposed technical assistance agreement for the export of technical data, defense services, and defense articles in the amount of $100,000,000 or more.

The transaction contained in the attached certification involves the export of technical data, defense services and articles in support of the sale of Sikorsky Model S-70A Helicopters for the United Arab Emirates Armed Forces.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 001-08.

February 26, 2008.

Hon. Nancy Pelosi, Speaker of the House of Representatives.

Dear Madam Speaker: Pursuant to Section 36(c) of the Arms Export Control Act, I am transmitting, herewith, certification of a proposed technical assistance agreement for the export of technical data, defense services, and defense articles in the amount of $50,000,000 or more.

The transaction contained in the attached certification involves the export of technical data, defense services and articles in support of the Integrated Surveillance System for the A400M Military Transport Aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 014-08.

February 29, 2008.

Hon. Nancy Pelosi, Speaker of the House of Representatives.

Dear Madam Speaker: Pursuant to Section 36(c) and (d) of the Arms Export Control Act, I am transmitting, herewith, certification of a proposed agreement for the export of defense articles or defense services sold commercially under contract in the amount of $100,000,000 or more.

The transaction described in the attached certification involves the transfer of defense articles, including technical data, and defense services to Japan for the production of the Evolved SeaSparrow Missile (ESSM).

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 011-08.

March 6, 2008.

Hon. Nancy Pelosi, Speaker of the House of Representatives.

Dear Madam Speaker: Pursuant to Section 36(d) of the Arms Export Control Act, I am transmitting, herewith, certification of a proposed manufacturing license agreement for the manufacture of significant military equipment abroad.

The transaction contained in the attached certification involves the export of defense articles, including technical data, and defense services to the United Kingdom to support the replication of the Quick Fox software object code for integration into Park Air UHF radio systems. Park Air will sell the modified UHF radio systems to India, Italy, and the United Kingdom.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 015-08.

March 6, 2008.

Hon. Nancy Pelosi, Speaker of the House of Representatives.

Dear Madam Speaker: Pursuant to Section 36(d) of the Arms Export Control Act, I am transmitting, herewith, certification of a proposed manufacturing license agreement for the manufacture of significant military equipment abroad.

The transaction contained in the attached certification involves the export of defense articles, including technical data, and defense services to the United Kingdom to support the manufacture of the MX-10205A/GRC Appliqué. The MX-10205A/GRC Appliqué provides Electronic Counter-Counter Measure Have Quick II or Quick Fox capability on UHF radio systems. The technical data related to this Appliqué is designated significant military equipment.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 022-08.

March 10, 2008.

Hon. Nancy Pelosi, Speaker of the House of Representatives.

Dear Madam Speaker: Pursuant to Section 36(c) of the Arms Export Control Act, I am transmitting, herewith, certification of a proposed agreement for the export of defense articles or defense services in the amount of $100,000,000 or more.

The transaction contained in the attached certification involves the export of defense articles, including technical data, and defense services to Australia to provide continued support for the manufacture of F/A-18 structural components.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 115-07.

March 10, 2008.

Hon. Nancy Pelosi, Speaker of the House of Representatives.

Dear Madam Speaker: Pursuant to Section 36(c) of the Arms Export Control Act, I am transmitting, herewith, certification of a proposed agreement for the export of defense articles or defense services sold commercially under contract in the amount of $50,000,000 or more.

The transaction described in the attached certification involves the transfer of defense articles, including technical data, and defense services to Mexico for the assembly, test, manufacture, fabrication, and repair of Honeywell Product Lines for various weapons systems and platforms.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 008-08.

March 10, 2008.

Hon. Nancy Pelosi, Speaker of the House of Representatives.

Dear Madam Speaker: Pursuant to Section 36(c) of the Arms Export Control Act, I am transmitting, herewith, certification of a proposed agreement for the export of defense articles or defense services in the amount of $50,000,000 or more.

The transaction contained in the attached certification involves the export of defense articles, including technical data, and defense services to Mexico to support the manufacture of electrical connectors, backplane assemblies, and cable assemblies for use in military avionics, communications, ordnance, and guidance systems.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 017-08.

March 10, 2008.

Hon. Nancy Pelosi, Speaker of the House of Representatives.

Dear Madam Speaker: Pursuant to section 36(c) of the Arms Export Control Act, I am transmitting, herewith, certification of an application for a license for the export of defense articles or defense services to be sold under a contract in the amount of $100,000,000 or more.

The transaction described in the attached certification involves the transfer of defense articles, including technical data, and defense services to the United Kingdom in support of the Directional Infrared Countermeasure System Program.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 019-08.

March 10, 2008.

Hon. Nancy Pelosi, Speaker of the House of Representatives.

Dear Madam Speaker: Pursuant to Section 36(c) of the Arms Export Control Act, I am transmitting, herewith, certification of a proposed license for the export of defense articles and defense services in the amount of $50,000,000 or more.

The transaction contained in the attached certification involves the temporary export of a commercial communications satellite to Russia and Kazakhstan for launch. This notification is for the export of the satellite and associated launch support equipment only. Transfer of ownership to a U.S. company will be made once the satellite is in orbit.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 029-08.

March 14, 2008.

Hon. Nancy Pelosi, Speaker of the House of Representatives.

Dear Madam Speaker: Pursuant to Section 36(c) of the Arms Export Control Act, I am transmitting, herewith, certification of a proposed agreement for the export of defense articles or defense services in the amount of $100,000,000 or more.

The transaction contained in the attached certification involves the export of defense articles, including technical data, and defense services to Japan to provide continued support for the manufacture of fuel control devices for the Japanese Ministry of Defense's F-15J aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 006-08.

March 14, 2008.

Hon. Nancy Pelosi, Speaker of the House of Representatives.

Dear Madam Speaker: Pursuant to Section 36(c) of the Arms Export Control Act, I am transmitting, herewith, certification of proposed agreement for the export of defense articles or defense services in the amount of $50,000,000 or more.

The transaction contained in the attached certification involves the export of defense articles, including technical data, and defense services to the Republic of Korea to provide continued support for maintenance services on the J79 and J85 engines.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 007-08.

March 14, 2008.

Hon. Nancy Pelosi, Speaker of the House of Representatives.

Dear Madam Speaker: Pursuant to Section 36(c) of the Arms Export Control Act, I am transmitting, herewith, re-certification of a proposed manufacturing license agreement for the export of defense services and defense articles in the amount of $50,000,000 or more.

The transaction contained in the attached certification involves the export of defense articles, including technical data, and defense services to the Turkey for the manufacture of the AN/ALQ-178(V)5+ Self Protection Electronic Warfare System (SPEWS II) and the AN/ALQ-178(V)5+M Self Protection Electronic Warfare System with Low Band Jamming Functionality (SPEWS III).

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 026-08.

March 14, 2008.

Hon. Nancy Pelosi, Speaker of the House of Representatives.

Dear Madam Speaker: Pursuant to Section 36(c) of the Arms Export Control Act, I am transmitting, herewith, certification of a proposed license for the export of defense articles and defense services in the amount of $50,000,000 or more.

The transaction contained in the attached certification involves the temporary export of two commercial communications satellites to international waters, Russia and Kazakhstan, or France for launch. This notification is for the export of the satellites and fuels only. Transfer of ownership to a U.S. company will be made once the satellites are in orbit.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 028-08.

March 14, 2008.

Hon. Nancy Pelosi, Speaker of the House of Representatives.

Dear Madam Speaker: Pursuant to section 36(c) of the Arms Export Control Act, as amended, I am transmitting, herewith, certification of an application for a license for the export of defense articles or defense services to be sold under a contract in the amount of $50,000,000 or more.

The transaction contained in the attached certification involves the export of defense articles, including technical data, and defense services to the United Kingdom and France to provide continued support for the installation and integration of the CTS-800-4N gas turbine engine into the Westland SuperLynx Helicopter.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 032-08.

March 14, 2008.

Hon. Nancy Pelosi, Speaker of the House of Representatives.

Dear Madam Speaker: Pursuant to Section 36(c) of the Arms Export Control Act, I am transmitting, herewith, certification of a proposed license for the export of defense articles that are firearms controlled under Category I of the United States Munitions List sold commercially under a contract in the amount of $1,000,000.

The transaction contained in the attached certification involves the export of firearms to Georgia for use by the Georgian Defense Ministry.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 033-08.

March 14, 2008.

Hon. Nancy Pelosi, Speaker of the House of Representatives.

Dear Madam Speaker: Pursuant to Section 36(c) of the Arms Export Control Act, I am transmitting, herewith, re-certification of a proposed manufacturing license agreement for the export of defense services and defense articles in the amount of $100,000,000 or more.

The transaction contained in the attached certification involves the export of defense articles, including technical data, and defense services to Canada for the manufacture and assembly of CF-18 Multi Function Display Indicators for use on F-18 A/B Aircraft.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 037-08.

March 31, 2008.

Hon. Nancy Pelosi, Speaker of the House of Representatives.

Dear Madam Speaker: Pursuant to Section 36(d) of the Arms Export Control Act, I am transmitting, herewith, certification of a proposed manufacturing license agreement for the manufacture of significant military equipment abroad.

The transaction described in the attached certification involves the transfer of defense articles, including technical data, and defense services to the United Kingdom for the manufacture, assembly, maintenance, modification, repair, overhaul, and sale of radar altimeters and accelerometers.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 035-08.

April 2, 2008.

Hon. Nancy Pelosi, Speaker of the House of Representatives.

Dear Madam Speaker: Pursuant to section 36(c) of the Arms Export Control Act, as amended, I am transmitting, herewith, certification of an application for a license for the export of defense articles or defense services to be sold under a contract in the amount of $100,000,000 or more.

The transaction contained in the attached certification involves the export of defense articles, including technical data, and defense services to Italy to provide continued support for the sale and operation of C-130J aircraft for the Italian Ministry of Defense.

The United States Government is prepared to license the export of these items having taken into account political, military, economic, human rights and arms control considerations.

More detailed information is contained in the formal certification which, though unclassified, contains business information submitted to the Department of State by the applicant, publication of which could cause competitive harm to the United States firm concerned.

Sincerely,

Jeffrey T. Bergner,

Assistant Secretary Legislative Affairs.

Enclosure: Transmittal No. DDTC 018-08.

Dated: April 4, 2008.
Kevin Maloney,
Director, Office of Defense Trade Controls Licensing, Department of State.

[FR Doc. E8-8065 Filed 4-14-08; 8:45 am]

BILLING CODE 4710-25-P